DEPARTMENT OF HOMELAND SECURITY

Coast Guard

33 CFR Part 165

[Docket No. USCG-2011-0038]

RIN 1625-AA87

Security Zones; Cruise Ships, Port of San Diego, CA; Correction

AGENCY: Coast Guard, DHS.

ACTION: Notice of proposed rulemaking; correction.

SUMMARY: This document corrects the preamble to a proposed rule published in the Federal Register of January 27, 2011 (76 FR 4833), regarding security zones for cruise ships in the Port of San Diego, California. This correction clarifies when a preliminary environmental analysis checklist will be available in the docket.

DATES: This correction is effective February 2, 2011.

FOR FURTHER INFORMATION CONTACT: If you have questions on this document, call or e-mail Commander Michael B. Dolan, Prevention, Coast Guard Sector San Diego, Coast Guard; telephone 619-278-7261, e-mail Michael.B.Dolan@uscg.mil. If you have questions on viewing or submitting material to the docket, call Renee V. Wright, Program Manager, Docket Operations, telephone 202-366-9826.

Correction

In the notice of proposed rulemaking FR Doc. 2011-1804, beginning on page 4833 in the issue of January 27, 2011, make the following correction in the SUPPLEMENTARY INFORMATION section. On page 4835 in the 2nd column, remove the following sentence starting on line 9:

“A preliminary environmental analysis checklist supporting this determination is available in the docket where indicated under ADDRESSES.”

And replace it with the following sentence:

“We intend to prepare a preliminary environmental analysis checklist and make it available in the docket where indicated under ADDRESSES.”

Dated: January 27, 2011.
Kathryn A. Sinniger,
Chief, Office of Regulations and Administrative Law.

[FR Doc. 2011-2222 Filed 2-1-11; 8:45 am]

BILLING CODE 9110-04-P